NUCLEAR REGULATORY COMMISSION

[Docket No. 70-3103; NRC-2010-0264]

Notice of Availability of Uranium Enrichment Fuel Cycle Facility's Inspection Reports Regarding Louisiana Energy Services, National Enrichment Facility, Eunice, NM, Prior to the Commencement of Operations

AGENCY: U.S. Nuclear Regulatory Commission.

ACTION: Notice of availability.

FOR FURTHER INFORMATION CONTACT: Gregory Chapman, Project Manager, Uranium Enrichment Branch, Division of Fuel Cycle Safety and Safeguards, Office of Nuclear Material Safety and Safeguards, U.S. Nuclear Regulatory Commission, Rockville, Maryland, 20852. Telephone: (301) 492-3106; email: Gregory.Chapman@nrc.gov

SUPPLEMENTARY INFORMATION:

I. Introduction

The U.S. Nuclear Regulatory Commission (NRC or the Commission) staff has conducted inspections of the Louisiana Energy Services (LES), LLC's, National Enrichment Facility in Eunice, New Mexico, and has verified that Cascades 3 and 4 of the facility have been constructed in accordance with the requirements of the approved license. The NRC staff has prepared inspection reports documenting its findings in accordance with the requirements of the NRC Inspection Manual. On August 23, 2011, the Commission authorized the licensee to start operations of Cascades 3 and 4. The publication of this Notice satisfies the requirements of Title 10 of the Code of Federal Regulations (10 CFR) 70.32 (k) and Section 193(c) of the Atomic Energy Act of 1954, as amended.

The introduction of uranium hexafluoride into any module of the National Enrichment Facility is not permitted until the Commission completes an operational readiness and management measures verification review to verify that management measures that ensure compliance with the performance requirements of 10 CFR 70.61 have been implemented and confirms that the facility has been constructed in accordance with the license and will be operated safely. Subsequent operational readiness and management measures verification reviews will continue throughout the various phases of plant construction; and, upon completion of these subsequent phases, additional notices will be posted to verify that the phase in question has been constructed in accordance with the license and to acknowledge licensee readiness for operations. As additional cascades are made available for inspection, the Commission will determine whether they are authorized for use. Any cascade authorizations will be discussed in the additional notices.

II. Further Information

Documents related to this action are available electronically at the NRC's Electronic Reading Room at http://www.nrc.gov/reading-rm/adams.html. From this site, you can access the NRC's Agencywide Documents Access and Management System (ADAMS), which provides text and image files of NRC's public documents. The ADAMS accession numbers for the documents related to this notice are:

Inspection report No. | Date | ADAMS accession No.
70-3103/2009-002 | 06-26-2009 | ML091770643
70-3103/2010-007 | 03-31-2010 | ML100900329
70-3103/2010-010 | 05-28-2010 | ML101480080
70-3103/2010-012 | 07-21-2010 | ML102020385
70-3103/2010-013 | 08-20-2010 | ML102320298
70-3103/2010-015 | 12-22-2010 | ML103560272
70-3103/2011-006 | 03-31-2011 | ML11090A037
70-3103/2011-008 | 06-15-2011 | ML111660886
70-3103/2011-011 | 09-19-2011 | ML11263A098

If you do not have access to ADAMS or if there are problems in accessing the documents located in ADAMS, contact the NRC Public Document Room Reference staff at 1-(800) 397-4209, (301) 415-4737 or by email to pdr.resource@nrc.gov.

These documents may also be viewed electronically on the public computers located at the NRC's Public Document Room (PDR), O1F21, One White Flint North, 11555 Rockville Pike, Rockville, Maryland 20852. The PDR reproduction contractor will copy documents for a fee.

Dated at Rockville, Maryland this 24th day of October 2011.
For the U.S. Nuclear Regulatory Commission.
Brian W. Smith,
Chief, Uranium Enrichment Branch, Division of Fuel Cycle Safety and Safeguards, Office of Nuclear Material Safety and Safeguards.

[FR Doc. 2011-28386 Filed 11-1-11; 8:45 am]

BILLING CODE 7590-01-P